DEPARTMENT OF LABOR

Employment and Training Administration

[TA-W-65,761]

True Temper Sports, Inc., Amory, MS; Notice of Termination of Investigation

Pursuant to Section 221 of the Trade Act of 1974, as amended, an investigation was initiated on April 7, 2009, in response to a worker petition filed on behalf of workers at True Temper Sports, Inc., Amory, Mississippi.

The petitioners have requested that the petition be withdrawn. Consequently, the investigation has been terminated.

Signed at Washington, DC, this 5th day of May 2009.
Linda G. Poole,
Certifying Officer, Division of Trade Adjustment Assistance.

[FR Doc. E9-13449 Filed 6-8-09; 8:45 am]

BILLING CODE 4510-FN-P